COMMITTEE FOR PURCHASE FROM PEOPLE WHO ARE BLIND OR SEVERELY DISABLED

Agency Information Collection Activities; Proposed Information Collection; Comment Request

ACTION: Submission for OMB Review; Comment Request.

AGENCY: Committee for Purchase From People Who Are Blind or Severely Disabled.

SUMMARY: The Committee is submitting to the Office of Management and Budget for their review the following collection as required by the Paperwork Reduction Act (44 U.S.C. Chapter 35).

Committee Form 403—Annual Certification—Qualified Nonprofit Agency Serving People Who Are Blind.

Committee From 404—Annual Certification—Qualified Nonprofit Agency Serving People Who Are Severely Disabled.

DATES: Interested persons are invited to submit comments about the collection on or before July 28, 2009. The agency's 60-day notice informing the public of the intent to renew this form with no changes was published in the Federal Register on March 7, 2012 on page 13563-13564.

ADDRESSES: Comments may be submitted, identified by the title of the information collection activity, to the Office of Information and Regulatory Affairs, Attn: Ms. Jasmeet K. Seehra, OMB Desk Officer, by any of the following two methods within 30 days from the date of publication in the Federal Register: (1) By fax to: (202) 395-6974, Attention: Ms. Jasmeet K. Seehra, OMB Desk Office; and (2) Electronically by email to: Jasmeet_K._Seehra@omb.eop.gov.

Requests for copies of documents pertaining to the collection should be addressed to Committee for Purchase From People Who Are Blind or Severely Disabled, Attention: Louis Bartalot, Director of Compliance, Jefferson Plaza 2, Suite 10800, 1421 Jefferson Davis Highway Arlington, VA 22202-3259 or emailed to lbartalot@abilityone.gov.

SUPPLEMENTARY INFORMATION: The Committee has two annual certification forms, one for nonprofit agencies serving people who are blind (Committee Form 403, OMB Control Number 3037-0001) and one for nonprofit agencies primarily serving people who have other severe disabilities (Committee Form 404, OMB Control Number 3037-0002). The information included on the forms is required to ensure that nonprofit agencies that participate in the Committee's program meet the requirements of the Javits-Wagner-O'Day Act (JWOD), 41 U.S.C. 8105-8506. No comments were received in response to the agency's 60-day notice informing the public of the intent to renew this form with minor changes, which was published in the Federal Register on March 7, 2012 on page 13563-13564.

Title: Annual Certification—Qualified Nonprofit Agency Serving People Who Are Blind, Committee Form 403.

OMB Number: 3037-0001.

Agency Number: 3037.

Frequency: Annually.

Affected Public: Nonprofit agencies serving people who are blind that participate in the AbilityOne Program.

Number of Respondents: 70.

Estimated Time per Respondent: 6 hours.

Total Burden Hours: 420.

Total Annual Costs: $12,600.

Title: Annual Certification—Qualified Nonprofit Agency Serving People Who

Are Severely Disabled, Committee Form 404.

OMB Number: 3037-0002.

Agency Number: 3037.

Frequency: Annually.

Affected Public: Nonprofit agencies serving people with severe disabilities that participate in the AbilityOne Program.

Number of Respondents: 538.

Estimated Time per Respondent: 6 hours.

Total Burden Hours: 3,228.

Total Annual costs: $96,840.

Barry S. Lineback,
Director, Business Operations.

[FR Doc. 2012-16192 Filed 7-2-12; 8:45 am]

BILLING CODE 6353-01-P